DEPARTMENT OF THE INTERIOR

Bureau of Land Management

[Montana; MT-060-00-1220-BE-003E]

Restriction of Public Lands

AGENCY: Bureau of Land Management, Interior.

ACTION: Notice. Restriction of public lands.

SUMMARY: The Bureau of Land Management (BLM) Lewistown Field Office, Montana is issuing written orders implementing a two year moratorium on the issuance of new annual Special Recreation Permits for commercial guided recreation trips on the Upper Missouri National Wild and Scenic River (UMNWSR). This order applies to all public lands and waters within the boundaries of the UMNWSR from Fort Benton, Montana downstream for 149 miles to the Fred Robinson Bridge. The BLM will not accept new applications or issue new annual Special Recreation Permits to any individual, group, corporation or company for the purpose of providing guided river trips on the UMNWSR.

Exemptions apply to any person who had been issued a valid annual Special Recreation Permit for commercial recreation on the UMNWSR prior to April 1, 2000, and any person providing only land based visitor services (shuttles, rentals, etc.).

DATES: This moratorium is effective immediately and applies until April 1, 2002.

ADDRESSES: David L. Mari, Field Manager, Lewistown Field Office, P.O. Box 1160, Lewistown, MT 59457.

FOR FURTHER INFORMATION CONTACT: Gary Slagel, 406/538-1950.

SUPPLEMENTARY INFORMATION: On August 10, 1999, the Secretary of the Interior asked the Central Montana Resource Advisory Council (RAC) to seek public comment and provide him with a report and recommendations concerning future management of public lands in the Missouri River Breaks in north central Montana. The RAC was asked to complete this task by December 31, 1999. During this time period, the RAC met four times and actively solicited public input regarding management options for the Missouri Breaks area. The council received more than 400 written and oral comments.

On December 30, 1999 the RAC's final report was sent to the Secretary of the Interior. This report included numerous motions approved with full RAC consensus. One of these motions proposed a two-year moratorium on new river special recreation permit authorizations. The RAC clarified and emphasized its intent with this recommendation during an earlier conference call on December 28, 1999. The two-year moratorium allows for the same number of outfitters, in fact the same outfitters, as permitted in 1999, and applies only to those outfitters actually using the river for floating/boating/guiding clients.

During this two-year moratorium, the BLM will collect data to determine the environmental impacts and ensuing social conflicts associated with significantly increased special recreation permit authorizations on the UMNWSR.

Authority: 43 CFR 8364.1 and 8351.2-1.

Dated: April 21, 2000.
David L. Mari,
Field Manager.

[FR Doc. 00-10948 Filed 5-2-00; 8:45 am]

BILLING CODE 4310-DN-P